DEPARTMENT OF COMMERCE

Foreign-Trade Zones Board

[B-22-2019]

Foreign-Trade Zone (FTZ) 136—Brevard County, Florida; Authorization of Production Activity; Airbus OneWeb Satellites, LLC (Satellites and Satellite Systems), Merritt Island, Florida

On April 2, 2019, the Canaveral Port Authority, grantee of FTZ 136, submitted a notification of proposed production activity to the FTZ Board on behalf of Airbus OneWeb Satellites, LLC, within FTZ 136, in Merritt Island, Florida.

The notification was processed in accordance with the regulations of the FTZ Board (15 CFR part 400), including notice in the Federal Register inviting public comment (84 FR 14086—14087, April 9, 2019). On July 31, 2019, the applicant was notified of the FTZ Board's decision that no further review of the proposed activity is warranted at this time. The FTZ Board authorized the production activity described in the notification, subject to the FTZ Act and the Board's regulations, including Section 400.14. Given the applicant's commitment in its notification, lithium batteries must be admitted to the zone in privileged foreign status (19 CFR 146.41).

Dated: July 31, 2019.
Elizabeth Whiteman,
Acting Executive Secretary.

[FR Doc. 2019-16751 Filed 8-5-19; 8:45 am]

BILLING CODE 3510-DS-P